FEDERAL COMMUNICATIONS COMMISSION

47 CFR Part 20

[WT Docket No. 15-285; DA 16-26]

Fourteen-Day Extension of Time To File Comments and Reply Comments

AGENCY: Federal Communications Commission.

ACTION: Proposed rule; extension of comment period.

SUMMARY: In this document, the Federal Communications Commission (Commission) finds that a limited extension in this proceeding would be beneficial to the development of a complete record on the issues, and it grants a fourteen-day extension of time for comments filed in response to the Commission's Notice of Proposed Rulemaking (NPRM) in, regarding Hearing Aid Compatibility Benchmarks.

DATES: Interested parties may file comments on the NPRM on or before January 28, 2016, and reply comments on or before February 12, 2016.

ADDRESSES: You may submit comments, identified by WT Docket No. 15-285; FCC 15-155, by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the Commission to request reasonable accommodations (accessible format documents, sign language interpreters, CART, etc.) by email: fcc504@fcc.gov or phone: 202-418-0530 or TTY: 202-418-0432.

For detailed instructions for submitting comments and additional information on the rulemaking process, see the SUPPLEMENTARY INFORMATION section of this document.

In addition to filing comments with the Secretary, a copy of any comments on the Paperwork Reduction Act information collection modifications proposed in the NPRM should be submitted to the Commission via email to PRA@fcc.gov and to Nicholas A. Fraser, Office of Management and Budget, via email to Nicholas_A._Fraser@omb.eop.gov or via fax at 202-395-5167.

FOR FURTHER INFORMATION CONTACT: For further information, contact Michael Rowan, Wireless Telecommunications Bureau, (202) 418-1883, email Michael.Rowan@fcc.gov, or Eli Johnson, Wireless Telecommunications Bureau (202) 418-1395, email Eli.Johnson@fcc.gov.

SUPPLEMENTARY INFORMATION: This is a summary of the Commission's document in WT Docket No. 15-285, DA 16-26, released on January 11, 2016. The full text of the document is available for public inspection and copying during business hours in the FCC Reference Information Center, Portals II, 445 12th Street SW., Room CY-A257, Washington, DC 20554. It also may be purchased from the Commission's duplicating contractor at Portals II, 445 12th Street SW., Room CY-B402, Washington, DC 20554. Additionally, the complete item is available on the Commission's Web site at http://www.fcc.gov.

Synopsis

1. On November 20, 2015, the Commission released the NPRM in WT Docket No. 15-285, FCC 15-155, regarding Hearing Aid Compatibility Benchmarks. The NPRM provided that comments are due on January 14, 2016, and that reply comments are due on January 29, 2016. On January 8, 2016, the Law Firm of Blooston, Mordkofsky, Dickens, Duffy & Prendergast, LLP and the Rural Wireless Association, Inc. filed a Joint Request for Extension of Time to File Comments seeking to extend the comment deadline based on the proximity of the January 15, 2016 deadline for submitting annual hearing aid compatibility reports for the 2015 reporting period.

2. The Commissions notes that extensions of time are not routinely granted, and states that such extensions may be warranted when, among other things, the additional time will serve the public interest. The Commission finds that providing a limited extension in this proceeding would be beneficial to the development of a complete record on the issues and that an extension of time therefore serves the public interest. The Commission extends the deadline for filing comments to January 28, 2016 and the deadline for filing reply comments to February 12, 2016.

3. The Commission takes this action pursuant to authority found in section 4(i) of the Communications Act of 1934, as amended, 47 U.S.C. 154(i), and sections 0.131, 0.331, and 1.46 of the Commission's rules, 47 CFR 0.131, 0.331, and 1.46.

Procedural Matters

Ex Parte Rules—Permit-But-Disclose

4. The proceeding that the NPRM in WT Docket No. 15-285, FCC 15-155, initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Comment Filing Procedures

5. Pursuant to sections 1.415 and 1.419 of the Commission's rules, 47 CFR 1.415, 1.419, interested parties may file comments and reply comments on the NPRM on or before the dates indicated on the first page of this document. All filings related to the NPRM should refer to WT Docket No. 15-285. Comments may be filed using: (1) The Commission's Electronic Comment Filing System (ECFS), (2) the Federal Government's eRulemaking Portal, or (3) by filing paper copies. See Electronic Filing of Documents in Rulemaking Proceedings, 63 FR 24121 (May 1, 1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

6. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

7. People with Disabilities: To request materials in accessible formats for people with disabilities (braille, large print, electronic files, audio format), send an email to fcc504@fcc.gov or call the Consumer & Governmental Affairs Bureau at 202-418-0530 (voice), 202-418-0432 (tty).

Federal Communications Commission.
Peter Trachtenberg,
Deputy Chief, Competition and Infrastructure Policy Division, Wireless Telecommunications Bureau.

[FR Doc. 2016-01316 Filed 1-22-16; 8:45 am]

BILLING CODE 6712-01-P